DEPARTMENT OF AGRICULTURE

Food and Nutrition Service

Agency Information Collection Activities: Proposed Collection; Comment Request: Request for Administrative Review

AGENCY: Food and Nutrition Service, USDA.

ACTION: Notice.

SUMMARY: In accordance with the Paperwork Reduction Act of 1995, the Food and Nutrition Service (FNS) invites comments on this information collection for which FNS intends to request approval from the Office of Management and Budget (OMB). The proposed collection is a revision of a currently approved collection.

DATES: Written comments must be submitted on or before April 17, 2006.

ADDRESSES: Comments are invited on (a) Whether the proposed collection of information is necessary for the proper performance of the functions of the agency, including whether the information has practical utility; (b) the accuracy of the agency's estimate of the burden of the proposed collection of information, including the validity of the methodology and assumptions that were used; (c) ways to enhance the quality, utility, and clarity of the information to be collected; and (d) ways to minimize the burden of the collection of information on those who are to respond, including the use of appropriate automated, electronic, mechanical, or other technological collection techniques or other forms of information technology. Comments may be sent to Courtney L. Wilkerson, Chief, Administrative Review Branch, Benefit Redemption Division, U.S. Department of Agriculture, Food and Nutrition Service, 3101 Park Center Drive, Room 608, Alexandria, Virginia 22302. Comments may also be faxed to the attention of Mr. Wilkerson at (703) 305-2820, or e-mailed to Courtney.Wilkerson@fns.usda.gov.

All responses to this notice will be summarized and included in the request for OMB approval. All comments will also be a matter of public record.

FOR FURTHER INFORMATION CONTACT: Request for additional information or copies of the information collection form and instructions should be directed to Courtney L. Wilkerson on (703) 305-2820.

SUPPLEMENTARY INFORMATION: Title: Request for Administrative Review.

OMB Number: 0584-0520.

Expiration Date: April 30, 2006.

Type of Request: Revision of a currently approved collection of information.

Abstract: The Food and Nutrition Service (FNS) of the U.S. Department of Agriculture is the Federal agency responsible for administering the Food Stamp Program. The Food Stamp Act of 1977, as amended, (7 U.S.C. 2011-2036) requires that the FNS determine the eligibility of retail food stores and certain food service organizations who apply to participate in the Food Stamp Program. If a food retailer or wholesale food concern is aggrieved by certain administrative action by FNS, that store has the right to file a written request for review of the administrative action with FNS.

The information collection burden for retail food stores and certain food service organizations has slightly increased over the past three fiscal years. The number of respondents reported in the previously approved collection was based on a collective total of three consecutive fiscal years (FY 2001-2003). In accordance with the Paperwork Reduction Act of 1995, this notice reflects an estimated total annual burden on respondents based solely on fiscal year 2005 data. Therefore, while the previously approved collection reflects 1,140 as the total number of respondents for fiscal years 2001-2003, this notice accurately reflects 652 respondents for fiscal year 2005, a slight annual increase over the last three fiscal years.

Estimate of Burden: The public reporting burden for this collection of information is estimated to average 0.17 an hour per response.

Respondents: Retail food stores and wholesale food concerns.

Estimated Number of Respondents: 652.

Number of Responses per Respondent: 1.2.

Estimated Time per Response: 0.17 minutes.

Estimated Total Annual Burden on Respondents: 133 hours.

Dated: February 3, 2006.
Roberto Salazar,
Administrator, Food and Nutrition Service.

[FR Doc. E6-2230 Filed 2-15-06; 8:45 am]

BILLING CODE 3410-30-P